DEPARTMENT OF THE INTERIOR

Fish and Wildlife Service

50 CFR Part 20

[Docket No. FWS-HQ-MB-2017-0028; FF09M21200-178-FXMB1231099BPP0]

RIN 1018-BB73

Migratory Bird Hunting; Migratory Bird Hunting Regulations on Certain Federal Indian Reservations and Ceded Lands for the 2018-19 Season

AGENCY: Fish and Wildlife Service, Interior.

ACTION: Final rule.

SUMMARY: This rule prescribes special migratory bird hunting regulations for certain Tribes on Federal Indian reservations, off-reservation trust lands, and ceded lands. This rule responds to tribal requests for U.S. Fish and Wildlife Service (hereinafter Service or we) recognition of their authority to regulate hunting under established guidelines. This rule allows the establishment of season bag limits and, thus, harvest at levels compatible with populations and habitat conditions.

DATES: This rule takes effect on August 24, 2018.

ADDRESSES: You may inspect comments received on the special hunting regulations and Tribal proposals during normal business hours at U.S. Fish and Wildlife Headquarters, 5275 Leesburg Pike, Falls Church, VA 22041-3803, or at http://www.regulations.gov at Docket No. FWS-HQ-MB-2017-0028.

FOR FURTHER INFORMATION CONTACT: Ron W. Kokel, U.S. Fish and Wildlife Service, Department of the Interior, MS: MB, 5275 Leesburg Pike, Falls Church, VA 22041-3803; (703) 358-1967.

SUPPLEMENTARY INFORMATION:

Background

The Migratory Bird Treaty Act (MBTA) of July 3, 1918 (16 U.S.C. 703 et seq.), authorizes and directs the Secretary of the Department of the Interior, having due regard for the zones of temperature and for the distribution, abundance, economic value, breeding habits, and times and lines of flight of migratory game birds, to determine when, to what extent, and by what means such birds or any part, nest, or egg thereof may be taken, hunted, captured, killed, possessed, sold, purchased, shipped, carried, exported, or transported.

In the May 23, 2018, Federal Register (83 FR 23869), we proposed special migratory bird hunting regulations for the 2018-19 hunting season for certain Indian tribes, under the guidelines described in the June 4, 1985, Federal Register (50 FR 23467). The guidelines respond to tribal requests for Service recognition of their reserved hunting rights, and for some tribes, recognition of their authority to regulate hunting by both tribal members and nonmembers on their reservations. The guidelines include possibilities for:

(1) On-reservation hunting by both tribal members and nonmembers, with hunting by nontribal members on some reservations to take place within Federal frameworks but on dates different from those selected by the surrounding State(s);

(2) On-reservation hunting by tribal members only, outside of usual Federal frameworks for season dates and length, and for daily bag and possession limits; and

(3) Off-reservation hunting by tribal members on ceded lands, outside of usual framework dates and season length, with some added flexibility in daily bag and possession limits.

In all cases, the regulations established under the guidelines must be consistent with the March 10-September 1 closed season mandated by the 1916 Migratory Bird Treaty with Canada.

In the August 3, 2017, Federal Register (82 FR 36308), we requested that tribes desiring special hunting regulations in the 2018-19 hunting season submit a proposal including details on:

(1) Harvest anticipated under the requested regulations;

(2) Methods that would be employed to measure or monitor harvest (such as bag checks, mail questionnaires, etc.);

(3) Steps that would be taken to limit level of harvest, where it could be shown that failure to limit such harvest would adversely impact the migratory bird resource; and

(4) Tribal capabilities to establish and enforce migratory bird hunting regulations.

No action is required if a tribe wishes to observe the hunting regulations established by the State(s) in which an Indian reservation is located. We have successfully used the guidelines since the 1985-86 hunting season. We finalized the guidelines beginning with the 1988-89 hunting season (August 18, 1988, Federal Register [53 FR 31612]).

The final rule described here is the final in the series of proposed and final rulemaking documents for Migratory Bird Hunting Regulations on Certain Federal Indian Reservations and Ceded Lands for the 2018-19 Season. This rule sets hunting seasons, hours, areas, and limits for migratory game bird species on reservations and ceded territories. This final rule is the culmination of the rulemaking process for the Tribal migratory game bird hunting seasons, which started with the August 3, 2017, proposed rule. This final rule sets the Migratory Bird Hunting Regulations on Certain Federal Indian Reservations and Ceded Lands for the 2018-19 Season.

Population Status and Harvest

Each year we publish various species status reports that provide detailed information on the status and harvest of migratory game birds, including information on the methodologies and results. These reports are available at the address indicated under FOR FURTHER INFORMATION CONTACT or from our website at https://www.fws.gov/birds/surveys-and-data/reports-and-publications/population-status.php. We used the following reports: Adaptive Harvest Management, 2018 Hunting Season (September 2017); American Woodcock Population Status, 2017 (August 2017); Band-tailed Pigeon Population Status, 2017 (August 2017); Migratory Bird Hunting Activity and Harvest During the 2015-16 and 2016-17 Hunting Seasons (August 2017); Mourning Dove Population Status, 2017 (August 2017); Status and Harvests of Sandhill Cranes, Mid-continent, Rocky Mountain, Lower Colorado River Valley and Eastern Populations, 2017 (August 2017); and Waterfowl Population Status, 2017 (August 2017).

Comments and Issues Concerning Tribal Proposals

For the 2018-19 migratory bird hunting season, we proposed regulations for 30 Tribes or Indian groups that followed the 1985 guidelines and were considered appropriate for final rulemaking. However, at that time, we noted in the May 23 proposed rule that we were proposing seasons for six Tribes who have submitted proposals in past years but from whom we had not yet received proposals this year. We did not receive proposals from three of those Tribes and, therefore, have not included them in this final rule.

The comment period for the May 23 proposed rule closed on June 22, 2018. We received five comments on our May 23 proposed rule, which announced proposed seasons for migratory bird hunting by American Indian Tribes. Significant comments are addressed below.

Written Comments: The Wisconsin Department of Natural Resources (WDNR) reiterated their past comments of being strongly opposed to allowing the use of electronic calls, hand nets, and snares on ceded lands (see February 5, 2018, Federal Register (83 FR 5037) for additional details). They stated that if approved, they should only be allowed on tribal lands, not State public lands, where the possibility of potential conflicts exists.

The Great Lakes Indian Fish and Wildlife Commission (GLIFWC) supported the proposed regulations and urged the timely approval and publishing of a final rule prior to the scheduled September 1, 2018, opening of the seasons.

Several individuals also provided comment. One commenter protested the entire migratory bird hunting regulations process and the killing of all migratory birds. Another commenter believed we should approve the proposed special migratory bird hunting Tribal seasons, while another believed we needed to publish the final tribal regulations prior to the season opening of September 1, 2018, unlike the previous year.

Service Response: In the February 5, 2018, Federal Register (83 FR 5037), we responded in detail to WDNR's comments regarding our approval of the GLIFWC's proposal. However, as an aid to the reader, we again summarize and respond here.

Allowing electronic calls. In the 1837 and 1842 Treaty Areas, GLIFWC proposes allowing an experimental application of electronic calls with up to 50 Tribal hunters allowed to use the devices. Individuals using electronic calls will be required to obtain a special Tribal permit, complete a hunt diary for each hunt where the devices are used, and submit the hunt diary to the Commission within 2 weeks of the end of the season in order to be eligible to obtain a permit for the following year. GLIFWC will require hunters to record the date, time, and location of each hunt; the number of hunters; the number of each species harvested per hunting event; if other hunters were in the area, any interactions with other hunters; and other information GLIFWC deems appropriate. GLIFWC will then summarize the diary results and submit a report to the Service. Barring unforeseen results, GLIFWC proposes that this experimental application be replicated for 3 years, after which a full evaluation would be completed.

As we have stated over the last 7 years (76 FR 54676, September 1, 2011; 77 FR 54451, September 5, 2012; 78 FR 53218, August 28, 2013; 79 FR 52226, September 3, 2014; 80 FR 52663, September 1, 2015; 81 FR 62404, September 9, 2016; 83 FR 5037, February 5, 2018), the issue of allowing electronic calls and other electronic devices for migratory game bird hunting has been highly debated and highly controversial over the last 40 years, similar to other prohibited hunting methods. Electronic calls, i.e., the use or aid of recorded or electronic amplified bird calls or sounds, or recorded or electrically amplified imitations of bird calls or sounds to lure or attract migratory game birds to hunters, were Federally prohibited in 1957, because of their effectiveness in attracting and aiding the harvest of ducks and geese and because they are generally not considered a legitimate component of hunting (see restriction in 50 CFR 20.21(g)).

In our previous responses on this issue, we have also discussed information stemming from the use of electronic calls during the special light-goose seasons and our conclusions as to its applicability to most other waterfowl species. Given available evidence on the effectiveness of electronic calls, we continue to be concerned about the large biological uncertainty surrounding any widespread use of electronic calls. Additionally, given the fact that tribal waterfowl hunting covered by this rule would occur on ceded lands that are not in the ownership of the Tribes, we remain concerned that the use of electronic calls to take waterfowl could lead to confusion on the part of the public, wildlife-management agencies, and law enforcement officials in implementing the requirements of 50 CFR part 20. Further, similar to the impacts of baiting, we have some concerns on the uncertain zone of influence range from the use of electronic calls, which could potentially increase harvest from non-tribal hunters operating within areas where electronic calls are used during the dates of the general hunt. However, unlike baiting, once the electronic call is removed from an area, the attractant or lure is immediately removed with presumably little to no lingering effects.

Notwithstanding our above concerns, we understand and appreciate GLIFWC's position on this issue; their desire to increase tribal hunter opportunity, harvest, and participation; and the importance that GLIFWC has ascribed to these issues. GLIFWC has proposed a limited use of electronic calls under an experimental design with up to only 50 Tribal hunters wherein hunters would be required to obtain special permits and complete and submit a hunt diary for each hunt where electronic calls were used. Further, given GLIFWC's extremely limited current and expected waterfowl harvest (fewer than 3,000 ducks and 600 geese) and hunter participation (limited to 50 hunters), our concerns for any potential biological impacts are significantly lessened. Therefore, we agree with the tribes that much of the large uncertainty surrounding any widespread use of electronic calls could be potentially controlled, or significantly lessened, by this very modest experiment.

Thus, we are approving GLIFWC's limited experimental approach with the hope of gaining additional information and knowledge about the use of electronic calls and their effects on waterfowl. Ideally, this limited approach includes utilizing electronic calls both for Canada geese (where they may already be used in some instances) and new efforts for ducks. Important data related to tribal hunter interest, participation, effects on targeted species, and harvest needs are to be closely tracked and reported, as GLIFWC has agreed. We conclude that the experimental removal of the electronic call prohibition, with the proposed limited design, is consistent with helping address and answer some of our long-standing concerns, and thus we approve GLIFWC's proposal to allow the experimental use of electronic calls in the 1837 and 1842 Treaty Areas for any open season for a 3-year experimental period.

Use of hand-held nets and snares. GLIFWC proposed that we allow tribal members to take migratory birds (primarily waterfowl) with the use of hand-held nets, hand-held snares, and the capturing of birds by hand in the 1837 and 1842 Treaty Areas. GLIFWC's proposal for the use of nets and snares and capturing by hand would include the take of birds at night. Non-attended nets or snares would not be authorized under this proposal. Tribal members using nets or snares to take migratory birds, or taking birds by hand, would be required to obtain a special Tribal permit, complete a hunt diary for each hunt where these methods are used, and submit the hunt diary to the Commission within 2 weeks of the end of the season in order to be eligible to obtain a permit to net migratory birds for the following year. GLIFWC-required information would include the date, time, and location of the hunt; number of hunters; the number of each species harvested per hunting event; and other information GLIFWC deems appropriate. Diary results would then be summarized and documented in a GLIFWC report, which would be submitted to the Service. Barring unforeseen results, GLIFWC proposes that this experimental application be replicated for 3 years, after which a full evaluation would be completed.

Current regulations at 50 CFR part 20 do not allow the use of traps, nets, or snares to capture migratory game birds (see § 20.21(a)), and we are unaware of any current State regulations allowing the use of traps for the capture of resident game birds. While the use of traps or nets for birds is not generally considered a sport-hunting technique, we recognize that their use may be a customary and traditional hunting method by tribal members. Further, GLIFWC's netting and trapping proposal does not allow baiting (which could lead to concerns related to potential disease transmission) or the herding of waterfowl into traps when they are largely flightless, such as during the summer molt. Practices such as these would significantly increase our concerns. As such, and recognizing the importance GLIFWC has placed on this issue, we are not opposed to the trapping of migratory birds, especially given all the GLIFWC-proposed restrictions on their use and the fact that they will be monitored at all times. Thus, we agree with the GLIFWC proposal and conclude that the restrictions they have proposed are appropriate to begin a 3-year experimental evaluation.

Use of hunter diaries. For both use of electronic calls and hand-nets and snares, GLIFWC has proposed that hunters be required to complete and submit a hunt diary in order to receive a special hunting permit the following year. Despite commenters stating that these tribal self-reporting requirements have not been productive in the past, this methodology, with GLIFWC's commitment, will provide us with useful information to help assess the program's effectiveness, user conflicts, hunter participation, and harvest. Given the relatively small size of the program and the anticipated participation and harvest, we see little need for GLIFWC staff to conduct field observations as States or Flyways (with thousands of hunters and potentially tens of thousands in anticipated harvest) have done for other experimental seasons. However, if we see that either the quality of information being yielded is not sufficient for our purposes or the level of impacts is more than anticipated and may warrant field observers and/or a more rigorous study approach, we will work with GLIFWC to address these issues.

Limiting activities to Tribal lands. WDNR requested that any of GLIWFC's proposals, if approved, be limited to Tribal lands only, or be prohibited on all State lands. They state that allowing the use of electronic calls, hand-held nets, and snares on all ceded lands increases the potential for conflicts with the general hunting public and creates a challenge for law enforcement. While we acknowledge that the potential for conflict exists, limiting GLIFWC's proposals to either Tribal lands only or non-State lands would severely limit GLIFWC's available hunting options. Some member tribes have relatively small reservations. State and County lands are a large and important component of ceded lands. Further, other hunting rights are exercised on ceded lands, along with methods and means not available to the general hunting public. Given the above and the very limited nature of the proposed experiment, we see no justification for restricting these hunting methods and means to either Tribal lands or non-State lands.

Individual, more generalized comments. Our long-term objectives continue to include providing opportunities to harvest portions of certain migratory game bird populations and to limit harvests to levels compatible with each population's ability to maintain healthy, viable numbers. Further, there exists a long history of establishing hunting seasons for migratory game bird species such as waterfowl, cranes, woodcock, doves, and migratory shore and upland game birds. Tribes, such as those included in this final rule, have hunted these species before and since the inception of our establishment of migratory game bird hunting seasons. These seasons are culturally important to them, and applicable treaties allow for hunting of these species.

Having taken into account the zones of temperature and the distribution, abundance, economic value, breeding habits, and times and lines of flight of migratory game birds, we conclude that the hunting seasons provided for herein are compatible with the current status of migratory bird populations and long-term population goals. Additionally, we are obligated to, and do, give serious consideration to all information received as public comment. We continue to conclude that the current Flyway-Council system of migratory bird management is one of the most longstanding, successful examples of State-Federal cooperative management since its establishment in 1952. Likewise, the establishment of special tribal migratory bird hunting regulations has been a successful Federal-Tribal partnership since 1988. However, as always, we continue to seek new ways to improve the process.

Required Determinations

Executive Order 13771—Reducing Regulation and Controlling Regulatory Costs

This final rule is not subject to the requirements of Executive Order (E.O.) 13771 (82 FR 9339, February 3, 2017) because this final rule establishes annual harvest limits related to routine hunting or fishing.

National Environmental Policy Act (NEPA) Consideration

The programmatic document, “Second Final Supplemental Environmental Impact Statement: Issuance of Annual Regulations Permitting the Sport Hunting of Migratory Birds (EIS 20130139),” filed with the Environmental Protection Agency (EPA) on May 24, 2013, addresses NEPA compliance by the Service for issuance of the annual framework regulations for hunting of migratory game bird species. We published a notice of availability in the Federal Register on May 31, 2013 (78 FR 32686), and our Record of Decision on July 26, 2013 (78 FR 45376). We also address NEPA compliance for waterfowl hunting frameworks through the annual preparation of separate environmental assessments, the most recent being “Duck Hunting Regulations for 2018-19,” with its corresponding May 2018, finding of no significant impact. The programmatic document, as well as the separate environmental assessment, is available on our website at https://www.fws.gov/birds/index.php or from the person indicated under the caption FOR FURTHER INFORMATION CONTACT.

Endangered Species Act Consideration

Section 7 of the Endangered Species Act of 1973, as amended (16 U.S.C. 1531 et seq.), provides that, “The Secretary shall review other programs administered by him and utilize such programs in furtherance of the purposes of this Act” (and) shall “insure that any action authorized, funded, or carried out * * * is not likely to jeopardize the continued existence of any endangered species or threatened species or result in the destruction or adverse modification of [critical] habitat. * * *.” Consequently, we conducted formal consultations to ensure that actions resulting from these regulations would not likely jeopardize the continued existence of endangered or threatened species or result in the destruction or adverse modification of their critical habitat. Findings from these consultations are included in a biological opinion, which concluded that the regulations are not likely to jeopardize the continued existence of any endangered or threatened species. Our biological opinions resulting from this section 7 consultation are public documents available for public inspection at the address indicated under ADDRESSES.

Regulatory Planning and Review (Executive Orders 12866 and 13563)

E.O. 12866 provides that the Office of Information and Regulatory Affairs (OIRA) will review all significant rules. OIRA has reviewed this rule and has determined that this rule is significant because it would have an annual effect of $100 million or more on the economy.

E.O. 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

An economic analysis was prepared for the 2018-19 season. This analysis was based on data from the 2011 National Hunting and Fishing Survey, the most recent year for which data are available (see discussion under Regulatory Flexibility Act, below). This analysis estimated consumer surplus for three alternatives for duck hunting (estimates for other species are not quantified due to lack of data). The alternatives are (1) issue restrictive regulations allowing fewer days than those issued during the 2017-18 season, (2) issue moderate regulations allowing more days than those in alternative 1, and (3) issue liberal regulations identical to the regulations in the 2017-18 season. For the 2018-19 season, we chose Alternative 3, with an estimated consumer surplus across all flyways of $334-$440 million with a mid-point estimate of $387 million. We also chose alternative 3 for the 2009-10, the 2010-11, the 2011-12, the 2012-13, the 2013-14, the 2014-15, the 2015-16, the 2016-17, and the 2017-18 seasons. The 2018-19 analysis is part of the record for this rule and is available at http://www.regulations.gov at Docket No. FWS-HQ-MB-2017-0028.

Regulatory Flexibility Act

The annual migratory bird hunting regulations have a significant economic impact on substantial numbers of small entities under the Regulatory Flexibility Act (5 U.S.C. 601 et seq.). We analyzed the economic impacts of the annual hunting regulations on small business entities in detail as part of the 1981 cost-benefit analysis. This analysis was revised annually from 1990-95. In 1995, the Service issued a Small Entity Flexibility Analysis (Analysis), which was subsequently updated in 1996, 1998, 2004, 2008, 2013, and 2018. The primary source of information about hunter expenditures for migratory game bird hunting is the National Hunting and Fishing Survey, which is conducted at 5-year intervals. The 2018 Analysis was based on the 2011 National Hunting and Fishing Survey and the U.S. Department of Commerce's County Business Patterns, from which it was estimated that migratory bird hunters would spend approximately $1.5 billion at small businesses in 2018. Copies of the Analysis are available upon request from the Division of Migratory Bird Management (see FOR FURTHER INFORMATION CONTACT) or from http://www.regulations.gov at Docket No. FWS-HQ-MB-2017-0028.

Small Business Regulatory Enforcement Fairness Act

This final rule is a major rule under 5 U.S.C. 804(2), the Small Business Regulatory Enforcement Fairness Act. For the reasons outlined above, this rule will have an annual effect on the economy of $100 million or more. However, because this rule establishes hunting seasons, we do not plan to defer the effective date under the exemption contained in 5 U.S.C. 808(1).

Paperwork Reduction Act

This rule does not contain any new collection of information that requires approval by the Office of Management and Budget (OMB) under the Paperwork Reduction Act of 1995 (44 U.S.C. 3501 et seq.). OMB has previously approved the information collection requirements associated with migratory bird surveys and the procedures for establishing annual migratory bird hunting seasons under the following OMB control numbers:

• 1018-0019, “North American Woodcock Singing Ground Survey” (expires 6/30/2021).

• 1018-0023, “Migratory Bird Surveys, 50 CFR 20.20” (expires 8/31/2020). Includes Migratory Bird Harvest Information Program, Migratory Bird Hunter Surveys, Sandhill Crane Survey, and Parts Collection Survey.

• 1018-0171, “Establishment of Annual Migratory Bird Hunting Seasons, 50 CFR part 20” (expires 06/30/2021).

An agency may not conduct or sponsor, and a person is not required to respond to, a collection of information unless it displays a currently valid OMB control number.

Unfunded Mandates Reform Act

We have determined and certify, in compliance with the requirements of the Unfunded Mandates Reform Act, 2 U.S.C. 1502 et seq., that this rulemaking will not impose a cost of $100 million or more in any given year on local or State government or private entities. Therefore, this rule is not a “significant regulatory action” under the Unfunded Mandates Reform Act.

Civil Justice Reform—Executive Order 12988

The Department, in promulgating this rule, has determined that this rule will not unduly burden the judicial system and that it meets the requirements of sections 3(a) and 3(b)(2) of E.O. 12988.

Takings Implication Assessment

In accordance with E.O. 12630, this rule, authorized by the Migratory Bird Treaty Act, does not have significant takings implications and does not affect any constitutionally protected property rights. This rule will not result in the physical occupancy of property, the physical invasion of property, or the regulatory taking of any property. In fact, this rule will allow hunters to exercise otherwise unavailable privileges and, therefore, reduce restrictions on the use of private and public property.

Energy Effects—Executive Order 13211

E.O. 13211 requires agencies to prepare Statements of Energy Effects when undertaking certain actions. While this rule is a significant regulatory action under E.O. 12866, it is not expected to adversely affect energy supplies, distribution, or use. Therefore, this action is not a significant energy action and no Statement of Energy Effects is required.

Government-to-Government Relationship With Tribes

In accordance with the President's memorandum of April 29, 1994, “Government-to-Government Relations with Native American Tribal Governments” (59 FR 22951), E.O. 13175, and 512 DM 2, we have evaluated possible effects on Federally recognized Indian tribes and have determined that there are no effects on Indian trust resources. We have consulted with Tribes affected by this rule.

Federalism Effects

Due to the migratory nature of certain species of birds, the Federal Government has been given responsibility over these species by the Migratory Bird Treaty Act. We annually prescribe frameworks from which the States make selections regarding the hunting of migratory birds, and we employ guidelines to establish special regulations on Federal Indian reservations and ceded lands. This process preserves the ability of the States and tribes to determine which seasons meet their individual needs. Any State or Indian tribe may be more restrictive than the Federal frameworks at any time. The frameworks are developed in a cooperative process with the States and the Flyway Councils. This process allows States to participate in the development of frameworks from which they will make selections, thereby having an influence on their own regulations. These rules do not have a substantial direct effect on fiscal capacity, change the roles or responsibilities of Federal or State governments, or intrude on State policy or administration. Therefore, in accordance with E.O. 13132, these regulations do not have significant federalism effects and do not have sufficient federalism implications to warrant the preparation of a federalism summary impact statement.

Regulations Promulgation

The rulemaking process for migratory game bird hunting, by its nature, operates under a time constraint as seasons must be established each year or hunting seasons remain closed. However, we intend that the public be provided extensive opportunity for public input and involvement in compliance with Administrative Procedure Act requirements. Thus, when the preliminary proposed rulemaking was published, we established what we concluded were the longest periods possible for public comment and the most opportunities for public involvement. We also provided notification of our participation in multiple Flyway Council meetings, opportunities for additional public review and comment on all Flyway Council proposals for regulatory change, and opportunities for additional public review during the Service Regulations Committee meeting. Therefore, sufficient public notice and opportunity for involvement have been given to affected persons regarding the migratory bird hunting frameworks for the 2018-19 hunting seasons. Further, after establishment of the final frameworks, States and Tribes need sufficient time to conduct their own public processes to select season dates and limits; to communicate those selections to us; and to establish and publicize the necessary regulations and procedures to implement their decisions. Thus, if there were a delay in the effective date of these regulations after this final rulemaking, States and Tribes might not be able to meet their own administrative needs and requirements.

For the reasons cited above, we find that “good cause” exists, within the terms of 5 U.S.C. 553(d)(3) of the Administrative Procedure Act, and these frameworks will take effect immediately upon publication.

Accordingly, with each participating Tribe having had an opportunity to participate in selecting the hunting seasons desired for its reservation or ceded territory on those species of migratory birds for which open seasons are now prescribed, and consideration having been given to all other relevant matters presented, certain sections of title 50, chapter I, subchapter B, part 20, subpart K, are hereby amended as set forth below.

List of Subjects in 50 CFR Part 20

Exports, Hunting, Imports, Reporting and recordkeeping requirements, Transportation, Wildlife.

Accordingly, part 20, subchapter B, chapter I of title 50 of the Code of Federal Regulations is amended as follows:

PART 20—MIGRATORY BIRD HUNTING

1. The authority citation for part 20 continues to read as follows:

Authority: 16 U.S.C. 703 et seq., and 16 U.S.C. 742a-j.

(Note: The following hunting regulations provided for by 50 CFR 20.110 will not appear in the Code of Federal Regulations because of their seasonal nature).

2. Section 20.110 is revised to read as follows:

§ 20.110 Seasons, limits, and other regulations for certain Federal Indian reservations, Indian Territory, and ceded lands.

Unless specifically provided for below, all of the regulations contained in 50 CFR part 20 apply to the seasons listed herein.

(a) Confederated Salish and Kootenai Tribes, Flathead Indian Reservation, Pablo, Montana (Tribal Members and Nontribal Hunters).

Tribal Members Only

Ducks (Including Mergansers)

Season Dates: Open September 1, 2018, through March 9, 2019.

Daily Bag and Possession Limits: The Tribe does not have specific bag and possession restrictions for Tribal members. The season on harlequin duck is closed.

Coots

Season Dates: Same as ducks.

Daily Bag and Possession Limits: Same as ducks.

Geese

Season Dates: Same as ducks.

Daily Bag and Possession Limits: Same as ducks.

Nontribal Hunters

Ducks (Including Mergansers)

Season Dates: Open September 22, 2018, through January 7, 2019.

Scaup

Season Dates: Open September 22 through December 17, 2018.

Daily Bag and Possession Limits: Seven ducks, including no more than two hen mallards, two pintail, three scaup (when open), two canvasback, and two redheads. The possession limit is three times the daily bag limit.

Coots

Season Dates: Same as ducks.

Daily Bag and Possession Limits: 25 and 25, respectively.

Geese

Dark Geese

Season Dates: Open September 22, 2018, through January 7, 2019.

Daily Bag and Possession Limits: 4 and 12, respectively.

Light Geese

Season Dates: Same as for dark geese.

Daily Bag and Possession Limits: 20 and 60, respectively.

General Conditions: Tribal and nontribal hunters must comply with all basic Federal migratory bird hunting regulations contained in 50 CFR part 20 regarding manner of taking. In addition, shooting hours are one-half hour before sunrise to one-half hour after sunset, and each waterfowl hunter 16 years of age or older must carry on his/her person a valid Migratory Bird Hunting and Conservation Stamp (Duck Stamp) signed in ink across the stamp face. Special regulations established by the Confederated Salish and Kootenai Tribes also apply on the reservation.

(b) Fond du Lac Band of Lake Superior Chippewa Indians, Cloquet, Minnesota (Tribal Members Only).

Ducks

1854 and 1837 Ceded Territories

Season Dates: Begin September 8 and end November 30, 2018.

Daily Bag Limit: 18 ducks, including no more than 12 mallards (only 3 of which may be hens), 9 black ducks, 9 scaup, 9 wood ducks, 9 redheads, 9 pintails, and 9 canvasbacks.

Reservation

Season Dates: Begin September 1 and end November 30, 2018.

Daily Bag Limit: 12 ducks, including no more than 8 mallards (only 2 of which may be hens), 6 black ducks, 6 scaup, 6 redheads, 6 pintails, 6 wood ducks, and 6 canvasbacks.

Mergansers

1854 and 1837 Ceded Territories

Season Dates: Begin September 8 and end November 30, 2018.

Daily Bag Limit: 15 mergansers, including no more than 6 hooded mergansers.

Reservation

Season Dates: Begin September 1 and end November 30, 2018.

Daily Bag Limit: 10 mergansers, including no more than 4 hooded mergansers.

Canada Geese

1854 and 1837 Ceded Territories:

Season Dates: Begin September 1 and end November 30, 2018.

Daily Bag Limit: 20 geese.

Reservation

Season Dates: Begin September 1 and end November 30, 2018.

Daily Bag Limit: 20 geese.

Coots and Common Moorhens (Common Gallinules)

1854 and 1837 Ceded Territories

Season Dates: Begin September 8 and end November 30, 2018.

Daily Bag Limit: 20 coots and common moorhens, singly or in the aggregate.

Reservation

Season Dates: Begin September 1 and end November 30, 2018.

Daily Bag Limit: 20 coots and common moorhens, singly or in the aggregate.

Sandhill Cranes: 1854 and 1837 Ceded Territories

Season Dates: Begin September 1 and end November 30, 2018.

Daily Bag Limit: Two sandhill cranes. Crane carcass tags are required prior to hunting.

Sora and Virginia Rails

All Areas

Season Dates: Begin September 1 and end November 30, 2018.

Daily Bag Limit: 25 sora and Virginia rails, singly or in the aggregate.

Common Snipe

All Areas

Season Dates: Begin September 1 and end November 30, 2018.

Daily Bag Limit: Eight common snipe.

Woodcock

All Areas

Season Dates: Begin September 1 and end November 30, 2018.

Daily Bag Limit: Three woodcock.

Mourning Doves

All Areas

Season Dates: Begin September 1 and end November 30, 2018.

Daily Bag Limit: 30 mourning doves.

General Conditions

1. While hunting waterfowl, a tribal member must carry on his/her person a valid Ceded Territory License.

2. Shooting hours for migratory birds are one-half hour before sunrise to one-half hour after sunset.

3. Except as otherwise noted, tribal members will be required to comply with tribal codes that will be no less restrictive than the provisions of Chapter 10 of the Model Off-Reservation Code. Except as modified by the Service rules adopted in response to this proposal, these amended regulations parallel Federal requirements in 50 CFR part 20 as to hunting methods, transportation, sale, exportation, and other conditions generally applicable to migratory bird hunting.

4. Band members in each zone will comply with State regulations providing for closed and restricted waterfowl hunting areas.

5. There are no possession limits for migratory birds. For purposes of enforcing bag limits, all migratory birds in the possession or custody of band members on ceded lands will be considered to have been taken on those lands unless tagged by a tribal or State conservation warden as having been taken on-reservation. All migratory birds that fall on reservation lands will not count as part of any off-reservation bag or possession limit.

(c) Grand Traverse Band of Ottawa and Chippewa Indians, Suttons Bay, Michigan (Tribal Members Only).

Ducks

Season Dates: Open September 1, 2018, through January 20, 2019.

Daily Bag Limit: 35 ducks, which may include no more than 8 pintail, 4 canvasback, 8 black ducks, 5 hooded merganser, 8 wood ducks, 8 redheads, and 20 mallards (only 10 of which may be hens).

Canada and Snow Geese

Season Dates: Open September 1, 2018, through February 15, 2019.

Daily Bag Limit: 15 geese.

Other Geese (White-Fronted Geese and Brant)

Season Dates: Open September 20 through December 30, 2018.

Daily Bag Limit: Five geese.

Sora Rails, Common Snipe, and Woodcock

Season Dates: Open September 1 through November 14, 2018.

Daily Bag Limit: 10 rails, 10 snipe, and 5 woodcock.

Mourning Doves

Season Dates: Open September 1 through November 14, 2018.

Daily Bag Limit: 25 mourning doves.

Sandhill Crane

Season Dates: Open September 1 through November 14, 2018.

Daily Bag Limit: 2 sandhill crane, with a season limit of 10.

General Conditions: A valid Grand Traverse Band Tribal license is required and must be in possession before taking any wildlife. Shooting hours for migratory birds are one-half hour before sunrise to one-half hour after sunset. All other basic regulations contained in 50 CFR part 20 are valid. Other tribal regulations apply, and may be obtained at the tribal office in Suttons Bay, Michigan.

(d) Great Lakes Indian Fish and Wildlife Commission, Odanah, Wisconsin (Tribal Members Only).

The 2018-19 waterfowl hunting season regulations apply to all treaty areas (except where noted):

Ducks

Season Dates: Begin September 1 and end December 31, 2018.

Daily Bag Limit: 50 ducks in the 1837 and 1842 Treaty Area; 30 ducks in the 1836 Treaty Area.

Mergansers

Season Dates: Begin September 1 and end December 31, 2018.

Daily Bag Limit: 10 mergansers.

Geese

Season Dates: Begin September 1 and end December 31, 2018. In addition, any portion of the ceded territory that is open to State-licensed hunters for goose hunting outside of these dates will also be open concurrently for tribal members.

Daily Bag Limit: 20 geese in aggregate.

Other Migratory Birds: Coots and Common Moorhens (Common Gallinules)

Season Dates: Begin September 1 and end December 31, 2018.

Daily Bag Limit: 20 coots and common moorhens (common gallinules), singly or in the aggregate.

Sora and Virginia Rails

Season Dates: Begin September 1 and end December 31, 2018.

Daily Bag and Possession Limits: 20, singly, or in the aggregate, 25.

Common Snipe

Season Dates: Begin September 1 and end December 31, 2018.

Daily Bag Limit: 16 common snipe.

Woodcock

Season Dates: Begin September 4 and end December 31, 2018.

Daily Bag Limit: 10 woodcock.

Mourning Dove: 1837 and 1842 Ceded Territories Only

Season Dates: Begin September 1 and end November 29, 2018.

Daily Bag Limit: 15 mourning doves.

Sandhill Cranes

Season Dates: Begin September 1 and end December 31, 2018.

Daily Bag Limit: 2 cranes in the 1837 and 1842 Treaty Area and no season bag limit; 1 crane with a season bag limit of 3 in the 1836 Treaty Area.

Swans: 1837 and 1842 Ceded Territories Only

Season Dates: Begin September 1 and end December 31, 2018.

Daily Bag/Season Limit: 2 swans. All harvested swans must be registered by presenting the fully-feathered carcass to a tribal registration station or GLIFWC warden, to be identified to species. If the total number of trumpeter swans harvested reaches 10, the swan season will be closed by emergency tribal rule.

General Conditions

A. All tribal members are required to obtain a valid tribal waterfowl hunting permit.

B. Except as otherwise noted, tribal members are required to comply with tribal codes that are no less restrictive than the model ceded territory conservation codes approved by Federal courts in the Lac Courte Oreilles v. State of Wisconsin (Voigt) and Mille Lacs Band v. State of Minnesota cases. Chapter 10 in each of these model codes regulates ceded territory migratory bird hunting. Both versions of Chapter 10 parallel Federal requirements as to hunting methods, transportation, sale, exportation, and other conditions generally applicable to migratory bird hunting. They also automatically incorporate by reference the Federal migratory bird regulations.

C. Particular regulations of note include:

1. Nontoxic shot is required for all waterfowl hunting by tribal members.

2. Tribal members in each zone must comply with tribal regulations providing for closed and restricted waterfowl hunting areas. These regulations generally incorporate the same restrictions contained in parallel State regulations.

3. There are no possession limits, with the exception of 2 swans (in the aggregate) and 25 rails (in the aggregate). For purposes of enforcing bag limits, all migratory birds in the possession and custody of tribal members on ceded lands are considered to have been taken on those lands unless tagged by a tribal or State conservation warden as taken on reservation lands. All migratory birds that fall on reservation lands do not count as part of any off-reservation bag or possession limit.

4. There are no shell limit restrictions.

5. Hunting hours are from 30 minutes before sunrise to 30 minutes after sunset, except that, within the 1837 and 1842 ceded territories hunters may use non-mechanical nets or snares that are operated by hand to take those birds subject to an open hunting season at any time. Hunters shall be permitted to capture, without the aid of other devices (i.e., by hand) and immediately kill birds subject to an open season, regardless of time of day. See #7 below for further explanation.

6. An experimental application of electronic calls (e-calls) will be implemented in the 1837 and 1842 ceded territories. Up to 50 tribal hunters will be allowed to use e-calls. Individuals using e-calls will be required to obtain a special permit; they will be required to complete a hunt diary for each hunt where e-calls are used; and they will be required to submit the hunt diary to the Commission within two (2) weeks of the end of the season in order to be eligible to obtain an e-call permit for the following year. Required information will include the date, time and location of the hunt, number of hunters, the number of each species harvested per hunting event, if other hunters were in the area, any interactions with other hunters, and other information deemed appropriate. Diary results will be summarized and documented in a Commission report, which will be submitted to the Service. Barring unforeseen results, this experimental application would be replicated for 3 years, after which a full evaluation would be completed.

7. Within the 1837 and 1842 ceded territories, tribal members will be allowed to use non-mechanical, hand-operated nets (i.e., throw/cast nets or hand-held nets typically used to land fish) and/or hand-operated snares, and may chase and capture migratory birds without the aid of hunting devices (i.e., by hand). At this time, non-attended nets or snares shall not be authorized under this regulation. Tribal members using nets or snares to take migratory birds, or taking birds by hand, will be required to obtain a special permit; they will be required to complete a hunt diary for each hunt where these methods are used; and they will be required to submit the hunt diary to the Commission within two (2) weeks of the end of the season in order to be eligible to obtain a permit to net migratory birds for the following year. Required information will include the date, time and location of the hunt, number of hunters, the number of each species harvested per hunting event, and other information deemed appropriate. Diary results will be summarized and documented in a Commission report, which will be submitted to the Service. Barring unforeseen results, this experimental application would be replicated for 3 years, after which a full evaluation would be completed.

(e) Jicarilla Apache Tribe, Jicarilla Indian Reservation, Dulce, New Mexico (Tribal Members and Nontribal Hunters).

Ducks (Including Mergansers)

Season Dates: Open October 6 through November 30, 2018.

Daily Bag and Possession Limits: The daily bag limit is seven, including no more than two hen mallards, two pintail, two redheads, two canvasback, and three scaup. The possession limit is three times the daily bag limit.

Canada Geese

Season Dates: Open October 6 through November 30, 2018.

Daily Bag and Possession Limits: Two and four, respectively.

General Conditions: Tribal and nontribal hunters must comply with all basic Federal migratory bird hunting regulations in 50 CFR part 20 regarding shooting hours and manner of taking. In addition, each waterfowl hunter 16 years of age or older must carry on his/her person a valid Migratory Bird Hunting and Conservation Stamp (Duck Stamp) signed in ink across the stamp face. Special regulations established by the Jicarilla Tribe also apply on the reservation.

(f) Kalispel Tribe, Kalispel Reservation, Usk, Washington (Tribal Members and Nontribal Hunters).

Nontribal Hunters on Reservation and Ceded Lands

Geese

Season Dates: Open September 15 through September 16, 2018; open September 22 through September 23, 2018; and open October 1, 2018, through January 8, 2019. During these periods, days to be hunted are specified by the Kalispel Tribe. Nontribal hunters should contact the Tribe for more detail on hunting days.

Daily Bag and Possession Limits: 5 Canada geese for the early season, and 6 light geese and 4 dark geese, for the late season. The daily bag limit is 2 brant (when the State's season is open) and is in addition to dark goose limits for the late-season. The possession limit is twice the daily bag limit.

Ducks

Season Dates: Open September 15, 2018, through September 16, 2018; open September 22, through September 23, 2018; and open October 1, 2018, through January 8, 2019.

Scaup

Season Dates: Open October 1, 2018, through December 25, 2018.

Daily Bag and Possession Limits: 7 ducks, including no more than 2 female mallards, 2 pintail, 2 canvasback, 3 scaup (when open), and 2 redheads. The possession limit is twice the daily bag limit.

General: Tribal members must possess a validated Migratory Bird Hunting and Conservation Stamp and a tribal ceded lands permit.

(g) Klamath Tribe, Chiloquin, Oregon (Tribal Members Only).

Ducks and Coots

Season Dates: Open October 6, 2018, through January 31, 2019.

Daily Bag and Possession Limits: 9 and 18, respectively.

Geese

Season Dates: Open October 6, 2018, through January 31, 2019.

Daily Bag and Possession Limits: 9 and 18, respectively.

General: Nontoxic shot is required. Use of live decoys, bait, and commercial use of migratory birds are prohibited. Waterfowl may not be pursued or taken while using motorized craft. Shooting hours are one-half hour before sunrise to one-half hour after sunset.

(h) Leech Lake Band of Ojibwe, Cass Lake, Minnesota (Tribal Members Only).

Ducks

Season Dates: Open September 15 through December 31, 2018.

Daily Bag Limits: 10 ducks, including no more than 5 pintail, 5 canvasback, and 5 black ducks.

Geese

Season Dates: Open September 1 through December 31, 2018.

Daily Bag Limits: 10 geese.

General: Possession limits are twice the daily bag limits. Shooting hours are one-half hour before sunrise to one-half hour after sunset. Nontoxic shot is required. Use of live decoys, bait, and commercial use of migratory birds are prohibited. Waterfowl may not be pursued or taken while using motorized craft.

(i) Little River Band of Ottawa Indians, Manistee, Michigan (Tribal Members Only).

1836 Ceded Territory and Tribal Reservation

Ducks

Season Dates: Open September 1, 2018, through January 27, 2019.

Daily Bag Limits: 12 ducks, including no more than 6 mallards (2 of which may be hens), 3 black ducks, 3 redheads, 3 wood ducks, 2 pintail, 1 bufflehead, 1 hooded merganser, and 2 canvasback.

Coots and Gallinules

Season Dates: Open September 14, 2018, through January 27, 2019.

Daily Bag Limits: Five coot and five gallinule.

Canada Geese

Season Dates: Open September 1, 2018, through February 3, 2019.

Daily Bag Limit: Five.

White-Fronted Geese, Brant, and Snow Geese

Season Dates: Open September 7 through December 9, 2018.

Daily Bag Limit: Five.

Woodcock, Mourning Doves, Snipe, and Sora and Virginia Rails

Season Dates: Open September 1 through November 11, 2018.

Daily Bag Limit: 5 woodcock and 10 each of the other species.

General Conditions Are as Follows

A. All tribal members will be required to obtain a valid tribal resource card and 2018-19 hunting license.

B. Except as modified by the Service rules adopted in response to this proposal, these amended regulations parallel all Federal regulations contained in 50 CFR part 20. Shooting hours will be from one-half hour before sunrise to sunset.

C. Particular regulations of note include:

(1) Nontoxic shot will be required for all waterfowl hunting by tribal members.

(2) Tribal members in each zone will comply with tribal regulations providing for closed and restricted waterfowl hunting areas. These regulations generally incorporate the same restrictions contained in parallel State regulations.

D. Tribal members hunting in Michigan will comply with tribal codes that contain provisions parallel to Michigan law regarding duck blinds and decoys.

E. Possession limits are twice the daily bag limits.

(j) The Little Traverse Bay Bands of Odawa Indians, Petoskey, Michigan (Tribal Members Only).

Ducks

Season Dates: Open September 1, 2018, through January 31, 2019.

Daily Bag Limits: 20 ducks, including no more than 5 hen mallards, 5 black ducks, 5 redheads, 5 wood ducks, 5 pintail, 5 scaup, and 5 canvasback.

Mergansers

Season Dates: Open September 1, 2018, through January 31, 2019.

Daily Bag Limits: 10 mergansers, including no more than 5 hooded mergansers.

Coots and Gallinules

Season Dates: Open September 15 through December 31, 2018.

Daily Bag Limit: 20.

Canada Geese

Season Dates: Open September 1, 2018, through February 8, 2019.

Daily Bag Limit: 20 in the aggregate.

Sora and Virginia Rails

Season Dates: Open September 1 through December 31, 2018.

Daily Bag Limit: 20.

Snipe

Season Dates: Open September 1 through December 31, 2018.

Daily Bag Limit: 15.

Mourning Doves

Season Dates: Open September 1 through November 14, 2018.

Daily Bag Limit: 15.

Woodcock

Season Dates: Open September 1 through December 1, 2018.

Daily Bag Limit: 10.

Sandhill Cranes

Season Dates: Open September 1 through December 1, 2018.

Daily Bag Limit: One.

General: Possession limits are twice the daily bag limits.

(k) Lower Brule Sioux Tribe, Lower Brule Reservation, Lower Brule, South Dakota (Tribal Members and Nontribal Hunters).

Tribal Members

Ducks, Mergansers, and Coots

Season Dates: Open September 1, 2018, through March 10, 2019.

Daily Bag and Possession Limits: Six ducks, including no more than two hen mallard and five mallards total, two pintail, two redheads, two canvasback, three wood ducks, three scaup, two bonus teal during October 6 through 21, 2018, and one mottled duck Coot daily bag limit is 15. Merganser daily bag limit is five, including no more than two hooded mergansers. The possession limit is three times the daily bag limit.

Canada Geese

Season Dates: Open September 1, 2018, through March 10, 2019.

Daily Bag and Possession Limits: 6 and 18, respectively.

White-Fronted Geese

Season Dates: Open September 1, 2018, through March 10, 2019.

Daily Bag and Possession Limits: Two and six, respectively.

Light Geese

Season Dates: Open September 1, 2018, through March 10, 2019.

Daily Bag Limit: 20.

Nontribal Hunters

Ducks (Including Mergansers and Coots)

Season Dates: Open October 6, 2018, through January 10, 2019.

Daily Bag and Possession Limits: Six ducks, including five mallards (no more of which can be two hen mallard), three scaup, two canvasback, two redheads, three wood ducks, one mottled duck, one pintail, and two bonus blue-winged teal during October 7, through October 22, 2018. Coot daily bag limit is 15. Merganser daily bag limit is five, including no more than two hooded mergansers. The possession limit is three times the daily bag limit.

Canada Geese

Season Dates: Open October 27, 2018, through February 10, 2019.

Daily Bag and Possession Limits: 6 and 18, respectively.

White-Fronted Geese

Season Dates: Open October 27, 2018, through January 22, 2019.

Daily Bag and Possession Limits: Two and six, respectively.

Light Geese

Season Dates: Open October 27, 2018, through February 10, 2019.

Daily Bag and Possession Limits: 50 and no possession limit.

General Conditions: All hunters must comply with the basic Federal migratory bird hunting regulations in 50 CFR part 20, including the use of steel shot and shooting hours. Nontribal hunters must possess a validated Migratory Bird Hunting and Conservation Stamp. The Lower Brule Sioux Tribe has an official Conservation Code that hunters must adhere to when hunting in areas subject to control by the Tribe.

(l) [Reserved]

(m) Makah Indian Tribe, Neah Bay, Washington (Tribal Members).

Band-Tailed Pigeons

Season Dates: Open September 22 through October 21, 2018.

Daily Bag Limit: Two band-tailed pigeons.

Ducks and Coots

Season Dates: Open September 22, 2018, through January 27, 2019.

Daily Bag Limit: Seven ducks including no more than five mallards (only two of which can be a hen), one redhead, one pintail, three scaup, and one canvasback. The seasons on wood duck and harlequin are closed. The coot daily bag limit is 25.

Geese

Season Dates: Open September 22, 2018, through January 27, 2019.

Daily Bag Limit: Four, including no more than one brant. The seasons on Aleutian and dusky Canada geese are closed.

General Conditions

All other Federal regulations contained in 50 CFR part 20 apply. The following restrictions also apply:

1. As per Makah Ordinance 44, only shotguns may be used to hunt any species of waterfowl. Additionally, shotguns must not be discharged within 300 feet of an occupied area.

2. Hunters must be eligible, enrolled Makah tribal members and must carry their Indian Treaty Fishing and Hunting Identification Card while hunting. No tags or permits are required to hunt waterfowl.

3. The use of live decoys and/or baiting to pursue any species of waterfowl is prohibited.

4. Only Service approved nontoxic shot is allowed; the use of lead shot is prohibited.

5. The use of dogs is permitted to hunt waterfowl.

6. Shooting hours for all species of waterfowl are one-half hour before sunrise to sunset.

7. Open hunting areas are: Makah Reservation except for designated wilderness areas and within one mile of the Cape Flattery and Shi-shi Trails. Off-Reservation Hunting Areas as specified in the General Hunting Regulations.

(n) Navajo Nation, Navajo Indian Reservation, Window Rock, Arizona (Tribal Members and Nontribal Hunters).

Band-Tailed Pigeons

Season Dates: Open September 1 through September 30, 2018.

Daily Bag and Possession Limits: 5 and 10 pigeons, respectively.

Mourning Doves

Season Dates: Open September 1 through September 30, 2018.

Daily Bag and Possession Limits: 10 and 20 doves, respectively.

Ducks (Including Mergansers and Coots)

Season Dates: Open September 22, 2018, through January 7, 2019.

Scaup

Season Dates: Open September 22 through December 17, 2018.

Daily Bag and Possession Limits: Seven ducks, including no more than two hen mallards, one mottled duck, two canvasback, three scaup (when open), two redheads, and one pintail. Coot daily bag limit is 25. Merganser daily bag limit is seven. The possession limit is three times the daily bag limit.

Canada Geese

Season Dates: Open September 22, 2018, through January 7, 2019.

Daily Bag and Possession Limits: 4 and 12, respectively.

General Conditions: Tribal and nontribal hunters will comply with all basic Federal migratory bird hunting regulations in 50 CFR part 20, regarding shooting hours and manner of taking. In addition, each waterfowl hunter 16 years of age or over must carry on his/her person a valid Migratory Bird Hunting and Conservation Stamp (Duck Stamp) signed in ink across the face. Special regulations established by the Navajo Nation also apply on the reservation.

(o) Oneida Tribe of Indians of Wisconsin, Oneida, Wisconsin (Tribal Members Only).

Ducks (Including Mergansers)

Season Dates: Open September 15 through December 2, 2018.

Daily Bag and Possession Limits: Six, including no more than six mallards (three hen mallards), six wood ducks, one redhead, two pintail, and one hooded merganser. The possession limit is twice the daily bag limit.

Geese

Season Dates: Open September 1 through December 31, 2018.

Daily Bag and Possession Limits: 5 Canada geese with a possession limit of 10. A seasonal quota of 500 birds is adopted. If the quota is reached before the season concludes, the season will be closed at that time.

Woodcock

Season Dates: Open September 1 through November 4, 2018.

Daily Bag and Possession Limits: Two and four woodcock, respectively.

Doves

Season Dates: Open September 1 through November 4, 2018.

Daily Bag and Possession Limits: 10 and 20 doves, respectively.

General Conditions: Tribal member shooting hours are one-half hour before sunrise to 15 minutes after sunset. Nontribal members hunting on the Reservation or on lands under the jurisdiction of the Tribe must comply with all State of Wisconsin regulations, including season dates, shooting hours, and bag limits, which differ from tribal member seasons. Tribal members and nontribal members hunting on the Reservation or on lands under the jurisdiction of the Tribe will observe all basic Federal migratory bird hunting regulations found in 50 CFR part 20, with the following exceptions: Tribal members are exempt from the purchase of the Migratory Waterfowl Hunting and Conservation Stamp (Duck Stamp); and shotgun capacity is not limited to three shells.

(p) Point No Point Treaty Council, Kingston, Washington (Tribal Members Only).

Jamestown S'Klallam Tribe

Ducks

Season Dates: Open September 1, 2018, through March 10, 2019.

Daily Bag and Possession Limits: Seven ducks, including no more than one harlequin duck per season.

Geese

Season Dates: Open September 9, 2018, through March 10, 2019.

Daily Bag and Possession Limits: Four geese, and may include no more than three light geese. The season on dusky Canada geese is closed. Possession limit is twice the daily bag limit.

Brant

Season Dates: Open January 10 through January 25, 2019.

Daily Bag and Possession Limits: Two and four, respectively.

Coots

Season Dates: Open September 13, 2018, through February 1, 2019.

Daily Bag and Possession Limits: 25 and 50 coots, respectively.

Mourning Doves

Season Dates: Open September 13, 2018, through January 18, 2019.

Daily Bag and Possession Limits: 10 and 20 doves, respectively.

Snipe

Season Dates: Open September 13, 2018, through March 10, 2019.

Daily Bag and Possession Limits: 8 and 16 snipe, respectively.

Band-Tailed Pigeons

Season Dates: Open September 13, 2018, through January 18, 2019.

Daily Bag and Possession Limits: Two and four pigeons, respectively.

Port Gamble S'Klallam Tribe

Ducks

Season Dates: Open September 1, 2018, through March 10, 2019.

Daily Bag and Possession Limits: Seven ducks, including no more than one harlequin duck per season.

Geese

Season Dates: Open September 1, 2018, through March 10, 2019.

Daily Bag and Possession Limits: Four geese, and may include no more than three light geese. The season on dusky Canada geese is closed. Possession limit is twice the daily bag limit.

Brant

Season Dates: Open November 9, 2018, through January 31, 2019.

Daily Bag and Possession Limits: Two and four, respectively.

Coots

Season Dates: Open September 1, 2018, through March 10, 2019.

Daily Bag and Possession Limits: 7 and 14 coots, respectively.

Mourning Doves

Season Dates: Open September 1, 2018, through January 31, 2019.

Daily Bag and Possession Limits: 10 and 20 doves, respectively.

Snipe

Season Dates: Open September 1, 2018, through March 10, 2019.

Daily Bag and Possession Limits: 8 and 16 snipe, respectively.

Band-Tailed Pigeons

Season Dates: Open September 1, 2018, through March 10, 2019.

Daily Bag and Possession Limits: Two and four pigeons, respectively.

General: Tribal members must possess a tribal hunting permit from the Point No Point Tribal Council pursuant to tribal law. Hunting hours are from one-half hour before sunrise to sunset. Hunters must observe all other basic Federal migratory bird hunting regulations in 50 CFR part 20.

(q) The Saginaw Chippewa Indian Tribe of Michigan, Isabella Reservation, Mt. Pleasant, Michigan (Tribal Members Only).

Mourning Doves

Season Dates: Open September 1, 2018, through January 31, 2019.

Daily Bag Limit: 25 doves.

Ducks

Season Dates: Open September 1, 2018, through January 31, 2019.

Daily Bag Limits: 20, including no more than 5 hen mallard, 5 wood duck, 5 black duck, 5 pintail, 5 redhead, 5 scaup, and 5 canvasback.

Mergansers

Season Dates: Open September 1, 2018, through January 31, 2019.

Daily Bag Limit: 10, including no more than 5 hooded mergansers.

Canada Geese

Season Dates: Open September 1, 2018, through January 31, 2019.

Daily Bag Limit: 20 in the aggregate.

Coots and Gallinule

Season Dates: Open September 1, 2018, through January 31, 2019.

Daily Bag Limit: 20 in the aggregate.

Woodcock

Season Dates: Open September 1, 2018, through January 31, 2019.

Daily Bag Limits: 10.

Common Snipe

Season Dates: Open September 1, 2018, through January 31, 2019.

Daily Bag Limits: 16.

Sora and Virginia Rails

Season Dates: Open September 1, 2018, through January 31, 2019.

Daily Bag Limits: 20 in the aggregate.

Sandhill Crane

Season Dates: Open September 1, 2018, through January 31, 2019.

Daily Bag Limits: One.

General: Possession limits are twice the daily bag limits except for rails, of which the possession limit equals the daily bag limit (20). Tribal members must possess a tribal hunting permit from the Saginaw Tribe pursuant to tribal law. Shooting hours are one-half hour before sunrise until one-half hour after sunset. Hunters must observe all other basic Federal migratory bird hunting regulations in 50 CFR part 20.

(r) Sauk-Suiattle Indian Tribe, Darrington, Washington (Tribal Members Only).

Ducks

Season Dates: Open September 1, 2018, through January 31, 2019.

Daily Bag Limits: 10.

Geese

Season Dates: Open September 1, 2018, through January 31, 2019.

Daily Bag Limit: Five geese.

Coots

Season Dates: Open September 1, 2018, through January 31, 2019.

Daily Bag Limit: 25 coots.

Brant

Season Dates: Open September 1, 2018, through January 31, 2019.

Daily Bag Limits: Five brant.

General: Shooting hours are one-half hour before sunrise until one-half hour after sunset. Hunters must observe all other basic Federal migratory bird hunting regulations in 50 CFR part 20.

(s) Sault Ste. Marie Tribe of Chippewa Indians, Sault Ste. Marie, Michigan (Tribal Members Only).

Mourning Doves

Season Dates: Open September 1 through November 14, 2018.

Daily Bag Limit: 10 doves.

Teal

Season Dates: Open September 1 through December 31, 2018.

Daily Bag Limits: 20 in the aggregate

Ducks

Season Dates: Open September 15 through December 31, 2018.

Daily Bag Limits: 20, including no more than 10 mallards (only 5 of which may be hens), 5 canvasback, 5 black duck, and 5 wood duck.

Mergansers

Season Dates: Open September 15 through December 31, 2018.

Daily Bag Limit: 10 in the aggregate.

Geese

Season Dates: Open September 1 through December 31, 2018.

Daily Bag Limit: 20 in the aggregate.

Coots and Gallinule

Season Dates: Open September 1 through December 31, 2018.

Daily Bag Limit: 20 in the aggregate.

Woodcock

Season Dates: Open September 2 through December 1, 2018.

Daily Bag Limits: 10.

Common Snipe

Season Dates: Open September 15 through December 31, 2018.

Daily Bag Limits: 16.

Sora and Virginia Rails

Season Dates: Open September 1 through December 31, 2018.

Daily Bag Limits: 20 in the aggregate.

General: Possession limits are twice the daily bag limits except for rails, of which the possession limit equals the daily bag limit (20). Tribal members must possess a tribal hunting permit from the Sault Ste. Marie Tribe pursuant to tribal law. Shooting hours are one-half hour before sunrise until one-half hour after sunset. Hunters must observe all other basic Federal migratory bird hunting regulations in 50 CFR part 20.

(t) Shoshone-Bannock Tribes, Fort Hall Indian Reservation, Fort Hall, Idaho (Nontribal Hunters).

Ducks, Including Mergansers

Duck Season Dates: Open October 6, 2018, through January 18, 2019.

Scaup Season Dates: Open October 6, 2018, through December 31, 2018.

Daily Bag and Possession Limits: Seven ducks and mergansers, including no more than two hen mallards, two pintail, three scaup (when open), two canvasback, and two redheads. The possession limit is three times the daily bag limit.

Coots

Season Dates: Same as ducks.

Daily Bag and Possession Limits: 25 coots. The possession limit is three times the daily bag limit.

Common Snipe

Season Dates: Same as ducks.

Daily Bag and Possession Limits: 8 and 24 snipe, respectively.

Canada Geese

Season Dates: Open October 6, 2018, through January 18, 2019.

Daily Bag and Possession Limits: 4 and 12, respectively.

White-Fronted Geese

Season Dates: Open October 6, 2018, through January 18, 2019.

Daily Bag and Possession Limits: 10 and 30, respectively.

Light Geese

Season Dates: Open October 6, 2018, through January 18, 2019.

Daily Bag and Possession Limits: 20 and 60, respectively.

General Conditions: Nontribal hunters must comply with all basic Federal migratory bird hunting regulations in 50 CFR part 20 regarding shooting hours and manner of taking. In addition, each waterfowl hunter 16 years of age or older must possess a valid Migratory Bird Hunting and Conservation Stamp (Duck Stamp) signed in ink across the stamp face. Other regulations established by the Shoshone-Bannock Tribes also apply on the reservation.

(u) Skokomish Tribe, Shelton, Washington (Tribal Members Only).

Ducks

Season Dates: Open September 16, 2018, through February 28, 2019.

Daily Bag and Possession Limits: Seven ducks, including no more than two hen mallards, one pintail, one canvasback, and two redheads. The daily bag limit on harlequin duck is one per season. The possession limit is twice the daily bag limit.

Geese

Season Dates: Open September 16, 2018, through February 28, 2019.

Daily Bag and Possession Limits: Four including no more than three light geese. The season on Aleutian Canada geese is closed. The possession limit is twice the daily bag limit.

Brant

Season Dates: Open November 1, 2018, through February 15, 2019.

Daily Bag and Possession Limits: 2 and 4 brant, respectively.

Coots

Season Dates: Open September 16, 2018, through February 28, 2019.

Daily Bag and Possession Limits: 25 and 50 coots, respectively.

Mourning Dove

Season Dates: Open September 16, 2018, through February 28, 2019.

Daily Bag and Possession Limits: 10 and 20 mourning dove, respectively.

Band-Tailed Pigeon

Season Dates: Open September 16, 2018, through February 28, 2019.

Daily Bag and Possession Limits: Two and four band-tailed pigeon, respectively.

Snipe

Season Dates: Open September 16, 2018, through February 28, 2019.

Daily Bag and Possession Limits: 8 and 16 Snipe, respectively.

General Conditions: Tribal members must possess a tribal hunting permit from the Skokomish Indian Tribe pursuant to tribal law. Shooting hours are one-half hour before sunrise until sunset. Hunters must observe all other basic Federal migratory bird hunting regulations in 50 CFR part 20.

(v) Spokane Tribe of Indians, Wellpinit, Washington (Tribal Members Only).

Ducks

Season Dates: Open September 2, 2018, through January 31, 2019.

Daily Bag and Possession Limits: Seven ducks, including no more than two hen mallards, two pintail, three scaup, two canvasback, and two redheads. The daily bag limit on harlequin duck is one per season. The possession limit is twice the daily bag limit.

Geese

Season Dates: Open September 2, 2018, through January 31, 2019.

Daily Bag and Possession Limits: Four Canada geese, 10 White-fronted geese, and 20 light geese. The possession limit is twice the daily bag limit.

General Conditions: Tribal members must possess a tribal hunting permit from the Spokane Indian Tribe pursuant to tribal law. Shooting hours are one-half hour before sunrise until sunset. Hunters must observe all other basic Federal migratory bird hunting regulations in 50 CFR part 20.

(w) [Reserved]

(x) Stillaguamish Tribe of Indians, Arlington, Washington (Tribal Members Only).

Common Snipe

Season Dates: Open October 1, 2018, through March 10, 2019.

Daily Bag and Possession Limits: 10 and 30, respectively.

Ducks

Season Dates: Open October 1, 2018, through March 10, 2019.

Daily Bag and Possession Limits: 10 ducks. The possession limit is three times the daily bag limit.

Coots

Season Dates: Open October 1, 2018, through March 10, 2019.

Daily Bag and Possession Limits: 25 coots. The possession limit is three times the daily bag limit.

Geese

Season Dates: Open October 1, 2018, through March 10, 2019.

Daily Bag and Possession Limits: 6 and 18, respectively. The season on brant is closed.

General Conditions: Tribal members hunting on lands will observe all basic Federal migratory bird hunting regulations found in 50 CFR part 20, which will be enforced by the Stillaguamish Tribal Law Enforcement. Tribal members are required to use steel shot or a nontoxic shot as required by Federal regulations.

(y) Swinomish Indian Tribal Community, LaConner, Washington (Tribal Members Only).

Ceded Territory and Swinomish Reservation

Ducks and Mergansers

Season Dates: Open September 1, 2018, through March 9, 2019.

Daily Bag and Possession Limits: 20 and 40, respectively.

Canada Geese

Season Dates: Open September 1, 2018, through March 9, 2019.

Daily Bag and Possession Limits: 10 and 20 geese, respectively.

Brant

Season Dates: Open September 1, 2018, through March 9, 2019.

Daily Bag and Possession Limits: 5 and 10 brant, respectively.

Coots

Season Dates: Open September 1, 2018, through March 9, 2019.

Daily Bag and Possession Limits: 25 and 75 coots, respectively.

Mourning Dove

Season Dates: Open September 1, 2018, through March 9, 2019.

Daily Bag and Possession Limits: 15 and 30 mourning dove, respectively.

Band-Tailed Pigeon

Season Dates: Open September 1, 2018, through March 9, 2019.

Daily Bag and Possession Limits: Three and six band-tailed pigeon, respectively.

Snipe

Season Dates: Open September 1, 2018, through March 9, 2019.

Daily Bag and Possession Limits: 15 and 30 snipe, respectively.

General Conditions: Shooting hours are from 30 minutes before sunrise until 30 minutes after sunset. Tribal members are required to use steel shot or a nontoxic shot as required by Federal regulations.

(z) The Tulalip Tribes of Washington, Tulalip Indian Reservation, Marysville, Washington (Tribal Members Only).

Ducks and Mergansers

Season Dates: Open September 1, 2018, through February 28, 2019.

Daily Bag and Possession Limits: 15 ducks, including no more than 10 pintail, 10 canvasback, and ten wood ducks, and 10 blue-winged teal. Possession limit is twice the daily bag limit.

Sea Ducks

Season Dates: Open September 1, 2018, through February 28, 2019.

Daily Bag and Possession Limits: 15 sea ducks, including no more than 10 harlequin. Possession limit is twice the daily bag limit.

Geese

Season Dates: Open September 1, 2018, through February 28, 2019.

Daily Bag and Possession Limits: 15 geese, including no more than 10 Cackling Canada geese or 10 Dusky Canada geese. Possession limit is twice the daily bag limit.

Brant

Season Dates: Open September 1, 2018, through February 28, 2019.

Daily Bag and Possession Limits: Five and ten brant, respectively.

Coots

Season Dates: Open September 1, 2018, through February 28, 2019.

Daily Bag and Possession Limits: 25 and 25 coots, respectively.

Snipe

Season Dates: Open September 1, 2018, through February 28, 2019.

Daily Bag and Possession Limits: 8 and 16 snipe, respectively.

General Conditions: All tribal hunters must have a valid Tribal identification card on his or her person while hunting. All nontribal hunters must obtain and possess while hunting a valid Tulalip Tribe hunting permit and be accompanied by a Tulalip Tribal member. Shooting hours are one-half hour before sunrise to sunset, and steel or federally-approved nontoxic shot is required for all migratory bird hunting. Hunters must observe all other basic Federal migratory bird hunting regulations in 50 CFR part 20.

(aa) Upper Skagit Indian Tribe, Sedro Woolley, Washington (Tribal Members Only).

Mourning Doves

Season Dates: Open September 1 through December 31, 2018.

Daily Bag and Possession Limits: 12 and 15 mourning doves, respectively.

Ducks

Season Dates: Open October 1, 2018, through February 28, 2019.

Daily Bag and Possession Limits: 15 and 20, respectively.

Coots

Season Dates: Open October 1, 2018, through February 15, 2019.

Daily Bag and Possession Limits: 20 and 30, respectively.

Geese

Season Dates: Open October 1, 2018, through February 28, 2019.

Daily Bag and Possession Limits: 7 and 10 geese, respectively.

Brant

Season Dates: Open November 1 through 10, 2018.

Daily Bag and Possession Limits: Two and two, respectively.

General Conditions: Tribal members must have the tribal identification and harvest report card on their person to hunt. Tribal members hunting on the Reservation will observe all basic Federal migratory bird hunting regulations found in 50 CFR part 20, except shooting hours would be 15 minutes before official sunrise to 15 minutes after official sunset.

(bb) Wampanoag Tribe of Gay Head, Aquinnah, Massachusetts (Tribal Members Only).

Teal

Season Dates: Open October 8, 2018, through February 16, 2019.

Daily Bag Limits: 10 teal.

Ducks

Season Dates: Open October 8, 2018, through February 16, 2019.

Daily Bag Limits: Six ducks, including no more than four hen mallards, six black ducks, four mottled ducks, one fulvous whistling duck, four mergansers, three scaup, two hooded merganser, three wood ducks, one canvasback, two redheads, and two pintail. The season is closed for harlequin ducks.

Sea Ducks

Season Dates: Open October 1, 2018, through February 16, 2019.

Daily Bag Limits: Seven ducks including no more than four of any one species (only one of which may be a hen eider).

Woodcock

Season Dates: Open October 8 through November 24, 2018.

Daily Bag Limits: Three woodcock.

Canada Geese

Season Dates: Open September 3 through 15, 2018, and open October 22, 2018, through February 16, 2019.

Daily Bag Limits: Eight Canada geese.

Snow Geese

Season Dates: Open September 3 through 13, 2018, and open November 19, 2018, through February 16, 2019.

Daily Bag Limits: 15 snow geese.

Sora and Virginia Rails

Season Dates: Open September 3 through November 3, 2018.

Daily Bag Limits: 5 sora and 10 Virginia rails.

Snipe

Season Dates: Open September 3 through December 8, 2018.

Daily Bag Limits: Eight snipe.

General Conditions: Shooting hours are one-half hour before sunrise to sunset. Nontoxic shot is required. All other basic Federal migratory bird hunting regulations contained in 50 CFR part 20 will be observed.

(cc) White Earth Band of Ojibwe, White Earth, Minnesota (Tribal Members Only).

Ducks

Season Dates: Open September 8 through December 16, 2018.

Daily Bag Limit for Ducks: 10 ducks, including no more than 2 female mallards, 2 pintail, and 2 canvasback.

Mergansers

Season Dates: Open September 8 through December 16, 2018.

Daily Bag Limit for Mergansers: Five mergansers, including no more than two hooded mergansers.

Geese

Season Dates: Open September 1 through December 15, 2018.

Daily Bag Limit: 10 geese through September 221, and 5 thereafter.

Coots

Season Dates: Open September 1 through November 30, 2018.

Daily Bag Limit: 20 coots.

Snipe

Season Dates: Open September 1 through November 30, 2018.

Daily Bag Limit: 10 snipe.

Mourning Dove

Season Dates: Open September 1 through November 30, 2018.

Daily Bag Limit: 25 mourning dove.

Woodcock

Season Dates: Open September 1 through November 30, 2018.

Daily Bag Limit: 10 woodcock.

Rail

Season Dates: Open September 1 through November 30, 2018.

Daily Bag Limit: 25 rail.

General Conditions: Shooting hours are one-half hour before sunrise to one-half hour after sunset. Nontoxic shot is required. All other basic Federal migratory bird hunting regulations contained in 50 CFR part 20 will be observed.

Dated: August 17, 2018.
Andrea Travnicek,
Principal Deputy Assistant Secretary—Water and Science, Exercising the Authority of the Assistant Secretary for Fish and Wildlife and Parks .

[FR Doc. 2018-18382 Filed 8-23-18; 8:45 am]

BILLING CODE 4333-15-P